DEPARTMENT OF AGRICULTURE

Forest Service

Alpine County Resource Advisory Committee (RAC)

AGENCY: Forest Service, USDA.

ACTION: Notice of meeting.

SUMMARY: The Alpine County Resource Advisory Committee (RAC) will hold its fourth meeting.

DATES: The meeting will be held on December 2, 2009, and will begin at 6 p.m. The meeting will be held in Alpine County at the Alpine Early Learning Center, 100 Foothill Road, Markleeville, CA 96120.

FOR FURTHER INFORMATION CONTACT: Marnie Bonesteel, RAC Coordinator, USDA, Humboldt-Toiyabe National Forest, Carson Ranger District, 1536 S. Carson Street, Carson City, NV 89701 (775) 884-8140; e-mail mbonesteel@fs.fed.us.

SUPPLEMENTARY INFORMATION: Agenda items to be covered include: (1) Vote on committee bylaws and elect a chairperson (2) Vote on Title II projects (3) Public Comment. The meeting is open to the public. Public input opportunity will be provided and individuals will have the opportunity to address the Committee at that time.

Dated: November 4, 2009.
Genny E. Wilson,
Designated Federal Officer.

[FR Doc. E9-27178 Filed 11-12-09; 8:45 am]

BILLING CODE M